FEDERAL ACCOUNTING STANDARDS ADVISORY BOARD

FASAB Requests Comments on Public-Private Partnerships: Disclosure Requirements

AGENCY: Federal Accounting Standards Advisory Board

ACTION: Notice.

Board Action: Pursuant to 31 U.S.C. 3511(d), the Federal Advisory Committee Act (Pub. L. 92-463), as amended, and the FASAB Rules of Procedure, as amended in October, 2010, notice is hereby given that the Federal Accounting Standards Advisory Board is seeking input on the Exposure Draft: Public-Private Partnerships: Disclosure Requirements.

The Exposure Draft is available at http://www.fasab.gov/board-activities/documents-for-comment/exposure-drafts-and-documents-for-comment/.

Copies can be obtained by contacting FASAB at (202) 512-7350.

Respondents are encouraged to comment on any part of the exposure draft.

Written comments are requested by January 2, 2015, and should be sent to: Wendy M. Payne, Executive Director, Federal Accounting Standards Advisory Board, 441 G Street NW., Suite 6814, Mail Stop 6H19, Washington, DC 20548.

For assistance in accessing the document contact FASAB at (202) 512-7350.

FOR FURTHER INFORMATION CONTACT: Wendy Payne, Executive Director, at (202) 512-7350.

Authority: Federal Advisory Committee Act, Pub. L. 92-463.

Dated: October 2, 2014.
Charles Jackson,
Federal Register Liaison Officer.

[FR Doc. 2014-23911 Filed 10-6-14; 8:45 am]

BILLING CODE 1610-02-P